DEPARTMENT OF THE INTERIOR

National Park Service

[NPS-WASO-NAGPRA-NPS0035955; PPWOCRADN0-PCU00RP14.R50000]

Notice of Intent To Repatriate Cultural Items: American Museum of Natural History, New York, NY

AGENCY: National Park Service, Interior.

ACTION: Notice.

SUMMARY: In accordance with the Native American Graves Protection and Repatriation Act (NAGPRA), the American Museum of Natural History (AMNH) intends to repatriate a certain cultural item that meets the definition of a sacred object and that has a cultural affiliation with the Native Hawaiian organizations in this notice. The cultural item most likely was removed from the State of Hawaii.

DATES: Repatriation of the cultural item in this notice may occur on or after July 3, 2023.

ADDRESSES: Nell Murphy, American Museum of Natural History, Central Park West at 79th Street, New York, NY 10024, telephone (212) 769-5837, email nmurphy@amnh.org.

SUPPLEMENTARY INFORMATION: This notice is published as part of the National Park Service's administrative responsibilities under NAGPRA. The determinations in this notice are the sole responsibility of the American Museum of Natural History. The National Park Service is not responsible for the determinations in this notice. Additional information on the determinations in this notice, including the results of consultation, can be found in the summary or related records held by the American Museum of Natural History.

Description

The one cultural item found in storage. In 1907, it was recorded in the Museum's catalog as a feather mask from “the Hawaiian Islands, Collector Unknown.” Based on consultation, as well as information in the published literature, this item most likely originated in Hawai'i. The one sacred object is an akua hulu manu, or Hawaiian feather god.

Cultural Affiliation

A detailed assessment of the sacred object was made by AMNH staff in consultation with representatives of Na Hoa Aloha O Ka Pu‘uhonua o Hönaunau (Na Hoa Aloha) and the Office of Hawaiian Affairs (OHA). There is a relationship of shared group identity that can reasonably be traced between the sacred object and present-day Native Hawaiian organizations listed in this notice. The following types of information were used to reasonably trace the relationship: anthropological, historical, oral traditional, and expert opinion.

Determinations

Pursuant to NAGPRA and its implementing regulations, and after consultation with the appropriate Native Hawaiian organizations, the American Museum of Natural History has determined that:

• Pursuant to 25 U.S.C. 3001(3)(C), the one cultural item described above is a specific ceremonial object needed by traditional Native Hawaiian religious leaders for the practice of traditional Native Hawaiian religions by their present-day adherents.

• Pursuant to 25 U.S.C. 3001(2), there is a relationship of shared group identity that can be reasonably traced between the cultural item and the Na Hoa Aloha O Ka Pu‘uhonua o Hönaunau and the Office of Hawaiian Affairs.

Requests for Repatriation

Additional, written requests for repatriation of the cultural item in this notice must be sent to the Responsible Official identified in ADDRESSES. Requests for repatriation may be submitted by any lineal descendant or Native Hawaiian organization not identified in this notice who shows, by a preponderance of the evidence, that the requestor is a lineal descendant or a culturally affiliated Native Hawaiian organization.

Repatriation of the cultural item in this notice to a requestor may occur on or after July 3, 2023. If competing requests for repatriation are received, the American Museum of Natural History must determine the most appropriate requestor prior to repatriation. Requests for joint repatriation of the cultural item are considered a single request and not competing requests. The American Museum of Natural History is responsible for sending a copy of this notice to the Native Hawaiian organizations identified in this notice.

Authority: Native American Graves Protection and Repatriation Act, 25 U.S.C. 3003, and the implementing regulations, 43 CFR 10.8, 10.10, and 10.14.

Dated: May 24, 2023.
Melanie O'Brien,
Manager, National NAGPRA Program.

[FR Doc. 2023-11690 Filed 5-31-23; 8:45 am]

BILLING CODE 4312-52-P